FEDERAL MARITIME COMMISSION

[Docket No. 25-29]

MAC Industries Inc. dba MAC Container Line, Complainant v. COSCO Shipping Lines Co., Ltd. and COSCO Shipping Lines (North America) Inc., Respondents; Notice of Filing of Complaint and Assignment

Notice is given that a complaint has been filed with the Federal Maritime Commission (the “Commission”) by MAC Industries Inc. dba MAC Container Line (the “Complainant”) against COSCO Shipping Lines Co., Ltd. and COSCO Shipping Lines (North America) Inc. (the “Respondents”). Complainant states that the Commission has jurisdiction over the complaint pursuant to the Shipping Act, 46 U.S.C. 41301-41307; the Ocean Shipping Reform Act of 2022; and 46 CFR part 502 and jurisdiction over Respondents as a vessel-operating common carrier and its United States agent.

Complainant is a non-vessel-operating common carrier organized and existing under the laws of the state of California with its principal place of business in San Clemente, California.

Complainant identifies Respondent COSCO Shipping Lines Co., Ltd. as a vessel-operating common carrier organized and existing under the laws of the People's Republic of China with its principal place of business in Shanghai, China whose agent in the United States is Respondent COSCO Shipping Lines (North America) Inc., a corporation with its principal place of business in Secaucus, New Jersey.

Complainant alleges that Respondents violated 46 U.S.C. 41102(c) and 41104(a)(2), (3), and (10). Complainant alleges these violations arose from Respondents' unreasonable assessment of detention charges even after Respondents had taken control of the equipment in dispute, retaliatory actions against Complainant by way of refusing to accept future bookings, failure to meet service commitments in attempting to cancel a shipment without cause, and other acts or omissions by Respondents.

An answer to the complaint must be filed with the Commission within 25 days after the date of service.

The full text of the complaint can be found in the Commission's electronic Reading Room at https://www2.fmc.gov/readingroom/proceeding/25-29/. This proceeding has been assigned to the Office of Administrative Law Judges. The initial decision of the presiding judge shall be issued by December 22, 2026, and the final decision of the Commission shall be issued by July 6, 2027.

(Authority: 46 U.S.C. 41301; 46 CFR 502.61(c))

Served: December 22, 2025.
David Eng,
Secretary.

[FR Doc. 2025-23955 Filed 12-29-25; 8:45 am]

BILLING CODE 6730-02-P